DEPARTMENT OF TRANSPORTATION

National Highway Traffic Safety Administration

[Docket No.: NHTSA-2005-23700]

Reports, Forms, and Recordkeeping Requirements

AGENCY: National Highway Traffic Safety Administration (NHTSA), Department of Transportation.

ACTION: Request for public comment on proposed collections of information.

SUMMARY: Before a Federal agency can collect certain information from the public, it must receive approval from the Office of Management and Budget (OMB). Under procedures established by the Paperwork Reduction Act of 1995 (PRA), before seeking OMB approval, Federal agencies must solicit public comment on proposed collections of information, including extensions and reinstatements of previously approved collections. This document describes one collection of information for which NHTSA intends to seek OMB approval.

DATES: Comments must be received on or before May 1, 2006.

ADDRESSES: Direct all written comments to U.S. Department of Transportation Dockets, 400 Seventh Street, SW., 401, Washington, DC 20590.

FOR FURTHER INFORMATION CONTACT: Allison Rusnak, Office of Chief Counsel, NCC-113, telephone (202) 366-1834, fax (202) 366-3820, NHTSA, 400 Seventh Street, SW., Washington, DC 20590.

SUPPLEMENTARY INFORMATION: Under the PRA, before an agency submits a proposed collection of information to OMB for approval, it must first publish a document in the Federal Register providing a 60-day comment period and otherwise consult with members of the public and affected agencies concerning each proposed collection of information. OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

In compliance with these requirements, NHTSA asks for public comments on the following proposed collection of information:

Title: Motorcyclist Safety Grant Program.

OMB Control Number: N/A.

Requested Expiration Date of Approval: Three years from the approval date.

Type of Request: New collection.

Affected Public: State Governments.

Form Number: HS-217.

Abstract: Section 2010 of the Safe, Accountable, Flexible, Efficient Transportation Equity Act: A Legacy for Users (SAFETEA-LU), Pub. L. 109-59, authorizes a grant program for States that adopt and implement effective motorcycle safety programs. Eligibility for the section 2010 grants is based on 6 grant criteria: (1) Motorcycle Rider Training Courses; (2) Motorcyclists Awareness Program; (3) Reduction of Fatalities and Crashes Involving Motorcycles; (4) Impaired Driving Program; (5) Reduction of Fatalities and Accidents Involving Impaired Motorcyclists; and (6) Fees Collected from Motorcyclists. To qualify for a section 2010 grant for the first fiscal year the State seeks to qualify, it must demonstrate compliance with at least 1 of the 6 grant criteria. To qualify for a section 2010 grant for the second and subsequent fiscal years it seeks to qualify, a State must demonstrate compliance with at least 2 of the 6 grant criteria.

The information collected for this grant program is to include application submissions and various reporting requirements. A State that seeks to qualify in the first fiscal year must submit an application containing information demonstrating that it satisfies 1 of the 6 grant criteria. For the second and subsequent fiscal years that it seeks to qualify, a State must submit an application containing information demonstrating that it satisfies 2 of the 6 grant criteria.

A State's application would identify under which of the 6 grant criteria it intends to qualify for a section 2010 grant. With respect to each of the criteria selected, the proposed rule would require certain supporting submissions from the State to demonstrate that it meets grant criteria.

A State that receives grant funds also must indicate to NHTSA how it intends to expend grant funds for each fiscal year and how grant funds were expended each fiscal year. It is important for NHTSA to be notified about these activities so that it can effectively administer the grant program and account for the expenditure of funds. To reduce burdens, A State will document these activities largely by making use of mechanisms that have received PRA clearance for other similar highway safety programs. A State will first notify NHTSA of its obligation of funds in accordance with the applicable provisions of SAFETEA-LU by submitting a Program Cost Summary (HS-217), a form with existing PRA clearance, within 30 days of the award notification. A State will also report to NHTSA, as part of its annual Highway Safety Plan under 23 U.S.C. 402, on how it intends to expend grant funds for each fiscal year. This reporting requirement, however, will not be a significant extra burden for the States because they are already required by statute to submit an annual Highway Safety Plan. Finally, a State that receives grants funds must submit each fiscal year, as part of the Annual Report for its highway safety program pursuant to 23 CFR 1200.33, a report indicating how grant funds were expended and identifying the programs carried out with the grant funds. Again, this reporting requirement will not be a significant extra burden for the States because they are already required by regulation to submit an Annual Report for their highway safety program.

Estimated Annual Burden: 1560 hours.

Estimated Number of Respondents: 52 (fifty States, the District of Columbia, and Puerto Rico).

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: February 27, 2006.
John Donaldson,
Assistant Chief Counsel for Legislation and General Law.

[FR Doc. E6-3008 Filed 3-1-06; 8:45 am]

BILLING CODE 4910-59-P